DEPARTMENT OF HEALTH AND HUMAN SERVICES

Centers for Disease Control and Prevention

[60 Day-01-31]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Lessons Learned from the Community Coalition Partnership Programs for the Prevention of Teen Pregnancy—New—The United States has the highest teenage pregnancy rate of all developed countries. About 1 million teenagers become pregnant each year and most of those pregnancies are unintended. These pregnancies have profound economic, social and personal impacts on the teen mothers, their children, and society.

Since 1995, the Centers for Disease Control and Prevention (CDC) has funded 13 community-wide coalitions, the Community Coalition Partnership Programs for Prevention of Teen Pregnancy, to reduce the incidence of teenage pregnancy through a youth development model. Phase I of this effort included a 2-year planning phase and Phase II is the 5-year intervention phase to be completed in September 2002. The proposed data collection is an evaluation of lessons learned from this demonstration project. The goals of the proposed data collection are:

• to provide evidence about effective long-term programs, their components, and approaches

• to identify best practices, practices to avoid, best investments, and how-to steps

• to inform the implementation of the demonstration program

• to inform the modification (if any) and expansion (if any) of the program

The data will be collected via interviews with key stakeholders from the hub organization (the one receiving CDC funding), its partner organizations, and the community during two 3-day site visits to each site. The second site visit will occur a year after the first site visit. If any key stakeholders cannot be present during the site visit, they will be interviewed by phone. There are no costs to Respondents.

Form | Type of Respondents | No. of respondents per year | No. of responses per respondent | Avg. burden per response (in hours) | Total annual burden (in hours)
1 | Hub organization leaders and stakeholders | ¹ 65 | 2 | 2 | 260
2 | Coalition partner leaders and stakeholders | ² 234 | 2 | 2 | 936
3 | Community stakeholders | ³ 130 | 2 | 2 | 520
| Total | 429 | 2 | 2 | 1,716
¹ 5 per site, 13 sites.
² 3 per org, 6 orgs per site, 13 sites.
³ 10 per site, 13 sites.

Dated: April 16, 2001.
Nancy E. Cheal,
Acting Associate Director for Policy, Planning, and Evaluation, Centers for Disease Control and Prevention.

[FR Doc. 01-10060 Filed 4-23-01; 8:45 am]

BILLING CODE 4163-18-P